NUCLEAR REGULATORY COMMISSION

10 CFR Part 72

[NRC-2012-0052]

RIN 3150-AJ12

List of Approved Spent Fuel Storage Casks: HI-STORM 100 Cask System; Amendment No. 9; Corrections

AGENCY: Nuclear Regulatory Commission.

ACTION: Final rule; correcting amendment.

SUMMARY: The U.S. Nuclear Regulatory Commission (NRC) published a document in the Federal Register (FR) on December 26, 2013, which corrected and delayed the effective date of a direct final rule published in the FR on December 6, 2013. The notice corrected several Agencywide Documents Access and Management System (ADAMS) accession numbers and delayed the effective date of the direct final rule from February 19, 2014, to March 11, 2014. The direct final rule amends the NRC's spent fuel storage regulations by revising the Holtec International HI-STORM 100 Cask System listing within the “List of Approved Spent Fuel Storage Casks” to include Amendment No. 9 to Certificate of Compliance (CoC) No. 1014. This action is necessary to provide notification that the NRC is amending its regulations by revising the Holtec HI-STORM 100 Cask System listing within the “List of Approved Spent Fuel Storage Casks” to correct the effective date of Amendment No. 9 to CoC No. 1014.

DATES: This rule is effective on April 14, 2014.

ADDRESSES: Please refer to Docket ID NRC-2012-0052 when contacting the NRC about the availability of information for this action. You may access publicly-available information related to this action by any of the following methods:

• Federal Rulemaking Web site: Go to http://www.regulations.gov and search for Docket ID NRC-2012-0052. Address questions about NRC dockets to Carol Gallagher, telephone: 301-287-3422, email: Carol.Gallagher@nrc.gov. For technical questions, contact the individual listed in the FOR FURTHER INFORMATION CONTACT section of this document.

• NRC's ADAMS: You may access publicly available documents online in the NRC Library at: http://www.nrc.gov/reading-rm/adams.html. To begin the search, select “ADAMS Public Documents” and then select “Begin Web-based ADAMS Search.” For problems with ADAMS, please contact the NRC's Public Document Room (PDR) reference staff at: 1-800-397-4209, 301-415-4737, or by email to: pdr.resource@nrc.gov.

• NRC's PDR: You may examine and purchase copies of public documents at the NRC's PDR, Room O-1F21, One White Flint North, 11555 Rockville Pike, Rockville, Maryland 20852.

FOR FURTHER INFORMATION CONTACT: Naiem S. Tanious, Office of Federal and State Materials and Environmental Management Programs, U.S. Nuclear Regulatory Commission, Washington, DC 20555-0001, telephone: 301-415-6103, email: Naiem.Tanious@nrc.gov.

SUPPLEMENTARY INFORMATION:

I. Discussion

The NRC published a direct final rule in the Federal Register on December 6, 2013 (78 FR 73379), and companion proposed rule (78 FR 73456) which revised the Holtec International HI-STORM 100 Cask System listing within the “List of Approved Spent Fuel Storage Casks” to include Amendment No. 9 to CoC No. 1014. The direct final rule was to become effective February 19, 2014, unless significant adverse comments on the proposed rule were received by January 6, 2014. Subsequently, on December 26, 2013, the NRC published a correction to the direct final rule delaying the effective date to March 11, 2014 (78 FR 78165), and a correction to the companion proposed rule (78 FR 78285) extending the comment period to January 27, 2014. The December 26, 2013, correction was necessary to correct ADAMS accession numbers listed in the December 6, 2013, direct final and proposed rules.

The December 26, 2013, document omitted the revised effective date of Amendment No. 9 of CoC No. 1014. This document corrects the effective date to March 11, 2014.

II. Rulemaking Procedure

Because this amendment corrects an effective date of a direct final rule that was already noticed in the FR, the Commission finds that the notice and comment provisions of the Administrative Procedure Act are unnecessary and is exercising its authority under 5 U.S.C. 553(b)(3)(B) to publish this amendment as a final rule. This amendment does not require action by any person or entity regulated by the NRC. Also, the final rule does not change the substantive responsibilities of any person or entity regulated by the NRC.

List of Subjects in 10 CFR Part 72

Administrative practice and procedure, Criminal penalties, Manpower training programs, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; and 5 U.S.C. 552 and 553, 10 CFR part 72 is corrected by making the following correcting amendment.

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2239, 2273, 2282, 2021); Energy Reorganization Act sec. 201, 202, 206, 211 (42 U.S.C. 5841, 5842, 5846, 5851); National Environmental Protection Act sec. 102 (42 U.S.C. 4332); Nuclear Waste Policy Act secs. 131, 132, 133, 135, 137, 141, 148 (42 U.S.C. 10151, 10152, 10153, 10155, 10157, 10161, 10168); Government Paperwork Elimination Act sec. 1704, (44 U.S.C. 3504 note); Energy Policy Act of 2005, Pub. L. 109-58, 119 Stat. 788 (2005).

Section 72.44(g) also issued under Nuclear Waste Policy Act secs. 142(b) and 148(c)-(d) (42 U.S.C. 10162(b), 10168(c)-(d)). Section 72.46 also issued under Atomic Energy Act sec. 189 (42 U.S.C. 2239); Nuclear Waste Policy Act sec. 134 (42 U.S.C. 10154). Section 72.96(d) also issued under Nuclear Waste Policy Act sec. 145(g) (42 U.S.C. 10165(g)). Subpart J also issued under Nuclear Waste Policy Act secs. 117(a), 141(h) (42 U.S.C. 10137(a), 10161(h)). Subpart K also issued under Nuclear Waste Policy Act sec. 218(a) (42 U.S.C. 10198).

2. In § 72.214, Certificate of Compliance 1014 is revised to read as follows:

§ 72.214 List of approved spent fuel storage casks.

* * * * *

Certificate Number: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

Amendment Number 8 Effective Date: May 2, 2012, as corrected on November 16, 2012 (ADAMS Accession No. ML12213A170).

Amendment Number 9 Effective Date: March 11, 2014.

SAR Submitted by: Holtec International.

SAR Title: Final Safety Analysis Report for the HI-STORM 100 Cask System.

Docket Number: 72-1014.

Certificate Expiration Date: May 31, 2020.

Model Number: HI-STORM 100.

* * * * *

Dated at Rockville, Maryland, this 8th day of April, 2014.
For the Nuclear Regulatory Commission.
Cindy K. Bladey,
Chief, Rules, Announcements, and Directives Branch, Division of Administrative Services, Office of Administration.

[FR Doc. 2014-08250 Filed 4-11-14; 8:45 am]

BILLING CODE 7590-01-P